DEPARTMENT OF DEFENSE

DEPARTMENT OF THE ARMY

Notice of Availability of a Draft Programmatic Environmental Impact Statement (PEIS) for the Growth, Realignment, and Stationing of Army Aviation Assets

AGENCY: Department of the Army, DoD.

ACTION: Notice of availability.

SUMMARY: The Department of the Army announces the availability of the Draft PEIS for the proposed growth, realignment, and stationing of new and existing Army aviation assets. The proposed action includes the consolidation and reorganization of existing aviation units, and the potential establishment of one or more Combat Aviation Brigades (CABs). The proposed action will increase the availability of helicopter assets to meet current and future national security requirements and will allow the Army better to organize existing aviation assets to promote more effective training and force management. The Draft PEIS evaluates the environmental impacts associated with the proposed action, which also includes the construction and renovation of garrison facilities, as well as additional training needed to support the aviation units. Land acquisition is not being considered as part of this action.

The Draft PEIS considers the following alternatives: Alternative 1—Realign and Station Existing Aviation Elements of Up to a Full CAB or Activate and Station a New CAB at Fort Carson, Colorado. Under this alternative, the Army either will consolidate existing aviation units not currently assigned to a CAB into a standard CAB structure at Fort Carson or activate a new CAB at Fort Carson. As part of this alternative, aviation units will conduct training on existing land at Pinon Canyon Maneuver Site (PCMS), Colorado, in order to maintain training proficiency and support integrated training with ground units. Land acquisition is not being considered as part of this action. Alternative 2—Realign and Station Existing Aviation elements of Up to a Full CAB or Grow, Station and Activate a CAB at Joint Base Lewis-McChord (JBLM) Washington. Under this alternative, the Army either will consolidate existing aviation units not currently assigned to a CAB into a standard CAB structure at JBLM or activate a new CAB at JBLM. As part of this alternative, aviation units will conduct training on existing training land at Yakima Training Center (YTC), Washington, in order to maintain training proficiency and support integrated training with ground units. Land acquisition is not being considered as part of this action. Alternative 3—Implement Alternatives 1 and 2 (preferred alternative). Under this alternative, the Army will implement both alternatives. Under this alternative, the consolidated units forming a CAB would be stationed at one installation, and the new CAB would be activated and stationed at the other installation. Fort Carson and JBLM would each gain up to one CAB. As part of this alternative, aviation units would conduct training on existing training land at the installation's training maneuver area (PCMS for Fort Carson and YTC for JBLM) in order to maintain training proficiency and support integrated training with ground units. Alternative 4—No Action Alternative. Under this alternative, the Army would retain its aviation force structure at its current levels, configurations, and locations.

Fort Carson and JBLM are the only stationing alternatives that meet all of the Army's stationing requirements for new CAB stationing. These locations have existing runways and airfields, provide adequate maneuver and airspace for CAB operations, and are equipped with existing training ranges that can support CAB training. Most importantly, Fort Carson and JBLM are the only major installations that have three or more Brigade Combat Teams but no CAB dedicated to provide aviation support for training. The proposed action would allow the Army to maximize integrated air-ground training. Land acquisition is not being considered as part of this action.

DATES: The public comment period will end 45 days after the publication of a notice of availability in the Federal Register by the U.S. Environmental Protection Agency.

ADDRESSES: Written comments may be sent to: Public Affairs Office, U.S. Army Environmental Command, Attention: IMPA-AE, 1835 Army Boulevard, Basement (Building 2000), Fort Sam Houston, TX 78234-2686.

FOR FURTHER INFORMATION CONTACT: Public Affairs Office at (210) 221-0882; fax (410) 436-1693; or e-mail at APGR-USAECNEPA@conus.army.mil.

SUPPLEMENTARY INFORMATION: A CAB consists of approximately 120 helicopters, 600 wheeled vehicles, and 2,700 Soldiers. The CAB is organized into five battalions and a headquarters unit. CAB units include combat, reconnaissance, and logistics support aircraft.

The Draft PEIS assesses, considers, and compares the direct, indirect, and cumulative environmental effects of proposed CAB growth and realignment for each alternative. The primary environmental issues evaluated include impacts to air quality, soil, airspace, cultural resources, natural resources, and noise. In addition, the Army considers those issues identified by the public and other organizations during the public scoping period (10 September-10 October 2010).

Environmental impacts associated with the implementation of the proposed action include significant impacts to transportation on the Interstate 5 corridor near JBLM and to fish and water quality in Puget Sound. There are potentially significant impacts to biological resources at YTC from increased potential for wildfire and habitat degradation associated with aviation training. Impacts will also include significant but mitigable impacts to soils at Fort Carson, PCMS, and YTC as well as significant but mitigable impacts to water resources at YTC. At PCMS, cumulative impacts to soils are predicted to be manageable with current dust control mitigation techniques. Impacts to cultural resources, air quality, noise impacts, public land use, and socioeconomic impacts were all determined to be less than significant.

Members of the public, including native communities and federally recognized Native American Tribes, and Federal, State, and local agencies are invited to submit written comments on environmental issues, concerns and opportunities analyzed in the Draft PEIS.

A copy of the Draft PEIS is available at http://aec.army.mil/usaec/nepa/topics00.html.

Dated: October 25, 2010.
Hershell E. Wolfe,
Acting Deputy Assistant Secretary of the Army (Environment, Safety, and Occupational Health).

[FR Doc. 2010-28035 Filed 11-4-10; 8:45 am]

BILLING CODE 3710-08-P